DEPARTMENT OF TRANSPORTATION

Federal Aviation Administration

Agency Information Collection Activities: Requests for Comments; Clearance of Renewed Approval of Information Collection: Neighborhood Environmental Survey

AGENCY: Federal Aviation Administration (FAA), DOT.

ACTION: Notice and request for comments.

SUMMARY: In accordance with the Paperwork Reduction Act of 1995, FAA invites public comments about our intention to request the Office of Management and Budget (OMB) approval to undertake an information collection. The purpose of this research is to conduct a nation-wide survey to update the scientific evidence of the relationship between aircraft noise exposure and its effects on communities around airports.

DATES: Written comments should be submitted by August 11, 2014.

FOR FURTHER INFORMATION CONTACT: Kathy DePaepe at (405) 954-9362, or by email at: Kathy.DePaepe@faa.gov.

SUPPLEMENTARY INFORMATION: OMB Control Number: 2120-XXXX (to be determined).

Title: Neighborhood Environmental Survey.

Form Numbers: There are no FAA forms associated with this collection of information.

Type of Review: Clearance of a new information collection.

Background: This Neighborhood Environmental Survey is necessary to update the relationship between aircraft noise exposure and its effect on communities around United States airports. This survey will collect data on annoyance from a representative sample of households surrounding airports chosen from a representative sample, and relate the annoyance level to the noise exposure for that address. The FAA will use the information from this collection to derive the empirical data to support potential updates to or validation of the national aviation noise policy.

Respondents: 12,147 respondents affected by airport noise.

Frequency: One time per respondent.

Estimated Average Burden per Response: Five minutes for a mail survey, twenty minutes for a telephone survey for selected respondents.

Estimated Total Annual Burden: 1,544 hours.

ADDRESSES: Send comments to the FAA at the following address: Ms. Kathy DePaepe, Room 126B, Federal Aviation Administration, ASP-110, 6500 S. MacArthur Blvd., Oklahoma City, OK 73169.

Public Comments Invited: You are asked to comment on any aspect of this information collection, including (a) whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

Issued in Washington, DC, on June 5, 2014.
Albert R. Spence,
FAA Assistant Information Collection Clearance Officer, IT Enterprises Business Services Division, ASP-110.

[FR Doc. 2014-13686 Filed 6-11-14; 8:45 am]

BILLING CODE 4910-13-P